DEPARTMENT OF THE TREASURY

Submission for OMB Review; Comment Request

March 12, 2015.

The Department of the Treasury will submit the following information collection request to the Office of Management and Budget (OMB) for review and clearance in accordance with the Paperwork Reduction Act of 1995, Public Law 104-13, on or after the date of publication of this notice.

DATES: Comments should be received on or before April 16, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by emailing PRA@treasury.gov, calling (202) 927-5221, or viewing the entire information collection request at www.reginfo.gov.

Departmental Offices

OMB Number: 1505-0123.

Type of Review: Revision of a currently approved collection.

Title: Survey of Foreign-Residents' Holdings of U.S. Securities.

Form: Form SHL, Schedules 1 and 2; SHLA, Schedules 1 and 2.

Abstract: The survey collects information on foreign resident's holdings of U.S. securities, including selected money market instruments. The data is used in the computation of the U.S. balance of payments accounts and U.S. international investment position, in the formulation of U.S. financial and monetary policies, to satisfy 22 U.S.C. 3101, and for information on foreign portfolio investment patterns. Respondents are primarily the largest banks, securities dealers, and issuers of U.S. securities.

Affected Public: Private Sector: Businesses or other for-profits.

Estimated Annual Burden Hours: 32,053.

Dawn D. Wolfgang,
Treasury PRA Clearance Officer.

[FR Doc. 2015-06059 Filed 3-16-15; 8:45 am]

BILLING CODE 4810-25-P